DEPARTMENT OF VETERANS AFFAIRS

Veterans' Family, Caregiver and Survivor Advisory Committee, Notice of Meeting

The Department of Veterans Affairs (VA) gives notice under the Federal Advisory Committee Act (FACA), 5 U.S.C. App. 2, that the Veterans' Family, Caregiver, and Survivor Advisory Committee will meet virtually on September 23, 2021. The meeting session will begin and end as follows:

Date | Time
September 23, 2021 | 1:00 p.m. to 4:00 p.m. EST.

The meeting is open to the public and will be conducted using Microsoft Teams. Please email VEOFACA@va.gov for an invitation link prior to September 22, 2021 or dial-in by phone (for audio only) 1-872-701-0185, United States, Chicago (Toll), Conference ID: 864 046 788#.

The purpose of the Committee is to advise the Secretary of Veterans Affairs on matters related to: The need of Veterans' families, caregivers and survivors across all generations, relationships and Veterans status; the use of VA care, benefits and memorial services by Veterans' families, caregivers and survivors, and opportunities for improvements to the experience using such services; VA policies, regulations and administrative requirements related to the transition of Servicemembers from the Department of Defense (DoD) to enrollment in VA that impact Veterans' families, caregivers and survivors; and factors that influence access to, quality of and accountability for services, benefits and memorial services for Veterans' families, caregivers and survivors.

On September 23, 2021, the agenda will include opening remarks from the Committee Chair and the Chief Veterans Experience Officer. There will be presentations from the subcommittee chairs on proposed recommendations for the Secretary.

Individuals wishing to share information with the Committee should contact the VEO Federal Advisory Committee Team at VEOFACA@va.gov to submit a 1-2 page summary of their comments for inclusion in the official meeting record before September 22, 2021 at 5:00 pm (EST). Due to the time limitations of virtual meetings, public comments will be submitted prior to the meeting and distributed to the Committee before the designated meeting time on September 23, 2021.

Any member of the public seeking additional information should contact Betty Moseley Brown (Designated Federal Official) Betty.MoseleyBrown@va.gov or 210-392-2505.

Dated: August 5, 2021.
Jelessa M. Burney,
Federal Advisory Committee Management Officer.

[FR Doc. 2021-17005 Filed 8-9-21; 8:45 am]

BILLING CODE P